DEPARTMENT OF COMMERCE

International Trade Administration

[A-337-804, A-533-813, A-560-802, A-570-851]

Certain Preserved Mushrooms From Chile, India, Indonesia, and the People's Republic of China: Notice of Continuation of Antidumping Duty Orders

AGENCY: Import Administration, International Trade Administration, Department of Commerce.

SUMMARY: As a result of the determinations by the Department of Commerce (the Department) and the International Trade Commission (ITC) that revocation of the antidumping duty orders on certain preserved mushrooms (mushrooms) from Chile, India, Indonesia, and the People's Republic of China (PRC) would be likely to lead to continuation or recurrence of dumping and of material injury to an industry in the United States within a reasonably foreseeable time, the Department is publishing notice of the continuation of these antidumping duty orders.

DATES: Effective Date: April 28, 2010.

FOR FURTHER INFORMATION CONTACT: Kate Johnson or Brandon Farlander, AD/CVD Operations, Import Administration, International Trade Administration, U.S. Department of Commerce, 14th Street & Constitution Avenue, NW., Washington, DC 20230; telephone: (202) 482-4929 or (202) 482-0182, respectively.

SUPPLEMENTARY INFORMATION:

Background

On October 1, 2009, the Department initiated and the ITC instituted sunset reviews of the antidumping duty orders on mushrooms from Chile, India, Indonesia, and the PRC, pursuant to section 751(c) of the Tariff Act of 1930, as amended (the Act). See also Notice of Antidumping Duty Order: Certain Preserved Mushrooms from Chile, 63 FR 66529 (December 2, 1998); Notice of Amendment of Final Determination of Sales at Less Than Fair Value and Antidumping Duty Order: Certain Preserved Mushrooms from India, 64 FR 8311 (February 19, 1999); Notice of Antidumping Duty Order: Certain Preserved Mushrooms from Indonesia, 64 FR 8310 (February 19, 1999); and Notice of Amendment of Final Determination of Sales at Less Than Fair Value and Antidumping Duty Order: Certain Preserved Mushrooms from the People's Republic of China, 64 FR 8308 (February 19, 1999).

The Department conducted expedited sunset reviews of these orders. As a result of its review, the Department found that revocation of the antidumping duty orders would be likely to lead to continuation or recurrence of dumping and notified the ITC of the magnitude of the margins likely to prevail were the orders to be revoked. See Certain Preserved Mushrooms from Chile, India, Indonesia and the People's Republic of China: Final Results of the Expedited Sunset Reviews of the Antidumping Duty Orders, 74 FR 67170 (December 18, 2009) (Final Results).

On April 15, 2010, the ITC published its determination pursuant to section 751(c) of the Act, that revocation of the antidumping duty orders on mushrooms from Chile, India, Indonesia, and the PRC would be likely to lead to continuation or recurrence of material injury to an industry in the United States within a reasonably foreseeable time. See Preserved Mushrooms from Chile, China, India, and Indonesia; Determinations, 75 FR 19658 (April 15, 2010).

Scope of the Finding

The products covered under the mushrooms orders are imported whole, sliced, diced, or as stems and pieces. The “preserved mushrooms” covered under the orders are the species Agaricus bisporus and Agaricus bitorquis. “Preserved mushrooms” refer to mushrooms that have been prepared or preserved by cleaning, blanching, and sometimes slicing or cutting. These mushrooms are then packed and heated in containers, including but not limited to cans or glass jars in a suitable liquid medium, including but not limited to water, brine, butter or butter sauce. Included within the scope of these orders are “brined” mushrooms, which are presalted and packed in a heavy salt solution to provisionally preserve them for further processing. Also included within the scope of these orders, as of June 19, 2000, are marinated, acidified, or pickled mushrooms containing less than 0.5 percent acetic acid.

Excluded from the scope of these orders are the following: (1) All other species of mushroom, including straw mushrooms; (2) all fresh and chilled mushrooms, including “refrigerated” or “quick blanched mushrooms”; (3) dried mushrooms; and (4) frozen mushrooms. The merchandise subject to these orders was previously classifiable under subheadings 2003.10.0027, 2003.10.0031, 2003.10.0037, 2003.10.0043, 2003.10.0047, 2003.10.0053, and 0711.90.4000 of the Harmonized Tariff Schedule of the United States (“HTSUS”). Although the HTSUS subheadings are provided for convenience and customs purposes, the written description of the scope of these orders is dispositive. As of January 1, 2002, the HTSUS subheadings are as follows: 2003.10.0127, 2003.10.0131, 2003.10.0137, 2003.10.0143, 2003.10.0147, 2003.10.0153, 0711.51.0000.

Continuation of the Finding

As a result of the determinations by the Department and the ITC that revocation of the antidumping duty orders would be likely to lead to continuation or recurrence of dumping and material injury to an industry in the United States, pursuant to section 751(d)(2) of the Act, the Department hereby orders the continuation of the antidumping duty orders on mushrooms from Chile, India, Indonesia, and the PRC.

U.S. Customs and Border Protection will continue to collect antidumping duty cash deposits at the rates in effect at the time of entry for all imports of subject merchandise.

The effective date of continuation of these orders will be the date of publication in the Federal Register of this Notice of Continuation. Pursuant to section 751(c)(2) of the Act, the Department intends to initiate the next five-year review of this finding not later than March 2015.

These five-year (sunset) reviews and this notice are in accordance with sections 751(c) and 777(i)(1) of the Act and 19 CFR 351.218(f)(4).

Dated: April 16, 2010.
Ronald K. Lorentzen,
Deputy Assistant Secretary for Import Administration.

[FR Doc. 2010-9864 Filed 4-27-10; 8:45 am]

BILLING CODE 3510-DS-P